DEPARTMENT OF ENERGY

Federal Energy Regulatory Commission

[Docket Nos. RP00-475-002, RP96-129-017 and RP00-609-003]

CMS Trunkline Gas Company, LLC; Notice of Compliance Filing

October 23, 2002.

Take notice that on October 18, 2002, CMS Trunkline Gas Company, LLC (Trunkline) tendered for filing as part of its FERC Gas Tariff, Second Revised Volume No. 1, the revised tariff sheets listed on Appendix A attached to the filing proposed to be effective November 1, 2002.

Trunkline asserts that the purpose of this filing is to implement the terms of the February 21, 2002 Stipulation and Agreement in Docket Nos. RP00-475-000, RP96-129-000, RP00-609-000 and RP00-609-001 (Settlement). The Settlement was approved, as modified, by the Commission's July 5, 2002 Order on Trunkline's Order No. 637 Settlement, 100 FERC ¶ 61,048 (2002), in the above referenced proceedings.

Trunkline states that copies of this filing are being served on all affected customers, applicable state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-27460 Filed 10-28-02; 8:45 am]

BILLING CODE 6717-01-P